DEPARTMENT OF THE INTERIOR

Bureau of Reclamation

[Arizona, INT-DES-00-24]

Allocation of Water Supply and Long-Term Contract Execution, Central Arizona Project

AGENCY: Bureau of Reclamation, Interior.

ACTION: Notice of availability of a draft environmental impact statement (EIS) for public review and comment on the proposed allocation of water supply and long-term contract execution, Central Airzona Project.

SUMMARY: Pursuant to the National Environmental Policy Act (NEPA) of 1969, as amended, and the Council on Environmental Quality's Regulations for Implementing the Procedural Provisions of NEPA, the Bureau of Reclamation (Reclamation) has prepared a draft EIS for the Central Arizona Project (CAP). The draft EIS describes in detail four alternative allocations of remaining available CAP water. A No Action Alternative is also described, which provides a baseline for comparing the impacts of the four action alternatives. Public hearings will be held to receive written or verbal comments on the draft EIS from interested organizations and individuals on the environmental impacts of the proposal. Notice of the hearings will appear at a future date.

DATES: Written comments must be received no later than August 25, 2000.

ADDRESSES: Send written comments on the draft EIS to Mr. Bruce Ellis, Environmental Program Manager, Phoenix Area Office, Bureau of Reclamation, P.O. Box 81169, Phoenix, Arizona 85069-1169, by August 25, 2000.

Our practice is to make comments, including names and home addresses of respondends, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials or organizations or businesses, available for public disclosure in their entirety.

The draft EIS document is available on the Internet as http://www.apo.lc.usbr.gov. Copies of the draft EIS are also available upon request to the following address: Ms. Janice Kjesbo, PXAO-1500, Phoenix Area Office, Bureau of Reclamation, P.O. Box 81169, Phoenix, Arizona 85069-1169, faxogram 602-216-4006, or telephone 602-216-3864.

See SUPPLEMENTARY INFORMATION section for a list of libraries where the draft EIS is available for public inspection and review.

FOR FURTHER INFORMATION CONTACT: Question regarding the draft EIS should be directed to Ms. Sandra Eto, Environmental Resource Management Division, Phoenix Area Office, Bureau of Reclamation, P.O. Box 81169, Phoenix, Arizona 85069-1169; telephone 602-216-3857.

SUPPLEMENTARY INFORMATION: Reclamation is proposing modifications to previous CAP water allocations. The purpose and need for the Federal action is to allocate remaining available CAP water in a manner that would facilitate the resolution of outstanding Indian water rights claims in the State of Arizona. Authority for this action is pursuant to the Colorado River Basin Project Act of 1968 (Public Law 90-537).

The proposed allocation is taking place in the context of settlement negotiations concerning operation and repayment of the CAP and Indian water rights. These negotiations are being conducted by the U.S. Departments of the Interior and Justice, with representatives of the Central Arizona Water Conservation District (which operates the CAP), several Indian Tribes, Arizona Department of Water Resources, non-Indian agricultural districts, and several municipalities. The proposed action (or Settlement Alternative) identified in the draft EIS is an allocation of CAP water consistent with terms of the negotiated settlements currently under discussion with these entities. The draft EIS also analyzes three alternative allocations of remaining available CAP water. The Secretary of the Interior could implement any one of these four action alternatives to achieve the purpose and need for the proposed action. A No Action Alternative is also described, which provides a baseline for comparing the impacts of the four action alternatives.

A final allocation of remaining available CAP water, and execution of contracts for delivery of that water, would provide a level of certainty to all entities regarding available future water supplies. This, in turn, would enable Arizona water users, Indian and non-Indian alike, to develop and implement the systems and infrastructure necessary to utilize those water supplies to meet future water demands and serve Tribal and community needs.

Libraries Where the Draft EIS is Available for Public Inspection and Review

• Department of the Interior, Natural Resources Library, 1849 C Street, NW, Washington, DC 20240.

• Bureau of Reclamation, Denver Office Library, Building 67, Room 167, Denver Federal Center, 6th and Kipling, Denver, CO 80225

• Arizona Department of Library Archives and Public Records, 1700 W. Washington St., Phoenix, AZ 85007

• Phoenix Public Library (Burton Barr Central), 1221 N. Central Ave., Phoenix, AZ 85004

• Arizona Collection, Hayden Library, Arizona State University, Tempe, AZ 85287

• Government Document Service, Arizona State University, Tempe, AZ 85287

• Arizona State University—West Library, 4701 W. Thunderbird Rd., Glendale, AZ 85306

• University of Arizona, Main Library, 1510 E. University Blvd., Tucson, AZ 85721

• Library, City Hall Annex, 111 E. Pennington, Tucson, AZ 85701

• Law Library, County Courthouse (Lower Level), Tucson, AZ 85701

• Government Reference Library, City Hall, 9th Floor, Tucson, AZ 85701

• Globe Public Library, 339 S. Broad St., Globe, AZ 85501

• Casa Grande Public Library, Casa Grande, AZ 85222

• Coolidge Public Library, 160 W. Central Ave., Coolidge, AZ 85228

• Coconino County Public Library, 300 W. Aspen Ave., Flagstaff, AZ 86001

• Cline Library, PO Box 6022, Northern Arizona University, Flagstaff, AZ 86011-6022

• Tuba City Public Library Bldg., 45 W Maple St., Tuba City, AZ 86045

• Payson Public Library, 510 W. Main, Payson, AZ 85541

• Sierra Vista Public Library, 2600 E. Tacoma, Sierra Vista, AZ 85635

• Cottonwood Public Library, 100 S. 6th St., Cottonwood, AZ 86326

• Parker Public Library, 1001 Navajo Ave., Parker AZ 85344

• Green Valley Public Library, 601 N. LaCañada, Green Valley, AZ 85614

• Octavia Fellin Public Library, 115 W. Hill Ave., Gallup, NM 87301

Dated: June 20, 2000.
V. LeGrand Neilson,
Deputy Regional Director.

[FR Doc. 00-15904 Filed 6-22-00; 8:45 am]

BILLING CODE 4310-MN-M